DEPARTMENT OF COMMERCE

Census Bureau

Agency Information Collection Activities; Submission to the Office of Management and Budget (OMB) for Review and Approval; Comment Request; Annual Integrated Economic Survey

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on November 21, 2022 during a 60-day comment period. This notice allows for an additional 30 days for public comments.

Agency: U.S. Census Bureau, Department of Commerce.

Title: Annual Integrated Economic Survey.

OMB Control Number: None.

Form Number(s): This electronic collection has no form number.

Type of Request: Regular submission, New Information Collection Request.

Number of Respondents: Dress Rehearsal—8,470 and 50 debriefing interviews; Full AIES—384,940.

Average Hours per Response: Dress Rehearsal—3 hours and 55 minutes, Debriefing interviews—1 hour; Full AIES—3 hours and 23 minutes.

Burden Hours: Dress Rehearsal—33,206 hours, Debriefing interviews—50 hours; Full AIES—1,300,535 hours.

Needs and Uses: The U.S. Census Bureau requests Office of Management and Budget (OMB) approval to conduct the Annual Integrated Economic Survey (AIES) on an annual basis, beginning for survey year 2023 (collected in calendar year 2024) and a preparatory Dress Rehearsal for the AIES for survey year 2022 (collected in calendar year 2023). The AIES is a new survey designed to integrate and replace seven existing annual business surveys into one survey. The AIES will provide the only comprehensive national and subnational data on business revenues, expenses, and assets on an annual basis. The AIES is designed to combine Census Bureau collections to reduce respondent burden, increase data quality, and allow the Census Bureau to operate more efficiently to reduce long term costs. The existing collections integrated into the AIES are the Annual Retail Trade Survey (ARTS), Annual Wholesale Trade Survey (AWTS), Service Annual Survey (SAS), Annual Survey of Manufactures (ASM), Annual Capital Expenditures Survey (ACES), Manufacturers' Unfilled Orders Survey (M3UFO), and the Report of Organization.

The AIES will collect the following information from employer businesses in sample:

• Business characteristics, including employment, operating status, organizational change, ownership information, and co-op status

• Business classification, including business activity, type of operation, and tax status

• Revenue, including sales, shipments, and receipts, revenue by class of customer, taxes, contributions, gifts, and grants, products, and e-commerce activity

• Operating expenses, including purchased services, payroll, benefits, rental payments, utilities, interest, resales, equipment, materials and supplies, research and development, and other detailed operating expenses

• Assets, including capital expenditures, inventories, and depreciable assets

• Robotic equipment

Additional topics of collections in the AIES include sources of revenue and/or expense for providers (e.g., hospitals and other businesses in the health industry) of select services such as inpatient days, outpatient visits to hospitals, patient visits for other selected health industries, revenue from telemedicine services, and expenses for electronic health records. Product data will be collected from businesses operating in manufacturing industries. Merchandise lines data will be collected from businesses operating in select retail industries. Detailed inventories will be collected for trucks, truck tractors, and trailers.

The AIES may include new questions each year based on relevant business topics. Potential topics for such new questions could include technological advances, management and business practices, exporting practices, and globalization. Any new questions will be submitted to OMB for review using the appropriate clearance vehicle.

Beginning in August of 2023, the Census Bureau plans to conduct a Dress Rehearsal for the AIES with approximately 8,470 companies. The Dress Rehearsal will collect survey year 2022 information. The Dress Rehearsal will be a large-scale test of the forms and procedures planned for the AIES. The burden estimate is 3 hours and 55 minutes per respondent. The Dress rehearsal will allow us to examine patterns of non-response and to determine what additional support respondents will need. Paradata gathered from respondents' interactions with the online collection instrument during the Dress Rehearsal will help refine our burden estimate. We will also compare the quality of responses received to historical data collected in the 7 surveys the AIES will replace. Up to 50, 1-hour debriefing interviews with respondents will also be conducted.

To minimize the burden imposed on most respondents already in sample for the seven annual surveys the AIES will replace, we will use the AIES responses from companies that participate in the Dress Rehearsal to satisfy their reporting requirement for the annual survey(s) for which they are in sample for the 2022 survey year. Given that the AIES Dress Rehearsal will be conducted during the same calendar year as we will be conducting the 2022 Economic Census, we may use the AIES Dress Rehearsal to supplement Economic Census responses, pursuant to title 13 U.S.C. 193.

After conclusion of the Dress Rehearsal, and based on refinements made to forms and procedures, the Census Bureau will begin conducting the full-scale AIES in 2024, collecting survey year 2023 information. The AIES will select a stratified sequential random sample of approximately 384,940 companies from a frame of approximately 5.4 million companies constructed from the BR, which is the Census Bureau's master business list.

The AIES covers domestic, nonfarm employer businesses with operations during the survey year. Non-employer businesses are not within the scope of this new AIES. The Census Bureau will submit a separate request for approval to collect data from non-employer businesses, if it is determined that a collection is needed to produce those estimates. Businesses which reported business activity on Internal Revenue Service (IRS) tax forms 941, “Employer's Quarterly Federal Tax Return”; 944, “Employer's Annual Federal Tax Return”; 1065 “U.S. Return of Partnership Income”; or any one of the 1120 corporate tax forms will be eligible for selection.

Respondents will receive an email and/or letter notifying them of their requirement to respond and how to access the survey. Responses will be due approximately 30 days from receipt. Select businesses will receive a due date reminder via a letter or email prior to the due date. Additionally, email follow-ups and up to three mail follow-ups to nonrespondents will be conducted at approximately one-month intervals. Selected nonrespondents will receive a priority class mailing for the third follow-up if needed. Selected nonrespondents will also receive follow-up telephone calls.

The AIES will replace the ARTS, AWTS, SAS, ASM, ACES, M3UFO, and the Report of Organization for survey year 2023, at which time the Census Bureau will officially sunset these programs. The ASM and the Report of Organization completed their final year of data collection in survey year 2021. ACES, ARTS, AWTS, SAS, and M3UFO will complete their final year of data collection in survey year 2022.

The Census Bureau will submit a revision request to OMB prior to conducting the full-scale AIES to finalize any details presented in this request that may change.

Estimates currently published in ARTS, AWTS, SAS, ASM, and ACES will be produced as part of the AIES and expanded to include subnational data across the economy. Previously, the ASM (manufacturing) was the only annual survey being integrated into the AIES that produced subnational data. The AIES will produce subnational data for manufacturing, retail, wholesale, and service sectors if quality standards are met. The AIES information previously collected on the Report of Organization will continue to be used to update the Census Bureau's BR, and the AIES data previously collected on the M3UFO will continue to be used for the Manufacturers' Shipments, Inventories, and Orders (M3) Survey benchmarking purposes. Data users will be able to access the AIES estimates through the use of visualizations, CSV files, data.census.gov, and the Federal Reserve Economic Data (FRED), which is an online database maintained by the Federal Reserve Bank of St. Louis.

Private businesses, organizations, industry analysts, educators and students, and economic researchers have used the data and estimates provided by the ARTS, AWTS, SAS, ASM, and ACES collections for analyzing and conducting impact evaluations on past and current economic performance, short-term economic forecasts, productivity, long-term economic growth, market analysis, tax policy, capacity utilization, business fixed capital stocks and capital formation, domestic and international competitiveness trade policy, product development, market research, and financial analysis. Trade and professional organizations have used the estimates to analyze industry trends and benchmark their own statistical programs, develop forecasts, and evaluate regulatory requirements. Government program officials and agencies have used the data for research, economic policy making, and forecasting.

Based on the use of the data of the existing collections, estimates produced from the AIES will serve as a benchmark for Census Bureau indicator programs, such as the Advance Monthly Sales for Retail and Food Services (MARTS), the Monthly Retail Trade Survey (MRTS), Manufacturers' Shipments Inventories & Orders (M3), Monthly Wholesale Trade Survey (MWTS), and the Quarterly Services Survey (QSS). Like the previous collections, the AIES will provide updates to the Longitudinal Research Database (LRD), and Census Bureau staff and academic researchers with special sworn status will continue to use the LRD for micro data analysis. The Census Bureau will also continue to use information collected in the AIES to update and maintain the centralized, multipurpose BR that provides sampling populations and enumeration lists for the Census Bureau's economic surveys and censuses.

The Bureau of Economic Analysis (BEA) will continue to use the estimates to derive industry output for the input-output accounts and for the gross domestic product (GDP). The Bureau of Labor Statistics (BLS) will continue to use the data as input to its Producer Price Index (PPI) and in developing productivity measurements; the Federal Reserve Board (FRB) will continue to use the data to prepare the Index of Industrial Production, to improve estimates of investment indicators for monetary policy, and in monitoring retail credit lending; the Centers for Medicare and Medicaid Services (CMS) will continue to use the data to estimate expenditures for the National Health Accounts and for monitoring and evaluating healthcare industries; and the Department of the Treasury will continue to use the data to analyze depreciation and to research economic trends.

Frequency: Annually.

Respondent's Obligation: Mandatory.

Legal Authority: The AIES collection is authorized by title 13 U.S.C. 131, 182, and 193. Response to the AIES is mandatory per sections 224 and 225 of title 13 U.S.C.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Department PRA Clearance Officer, Office of the Under Secretary for Economic Affairs, Commerce Department.

[FR Doc. 2023-06947 Filed 4-3-23; 8:45 am]

BILLING CODE 3510-07-P